DEPARTMENT OF COMMERCE

International Trade Administration

[A-570-970]

Multilayered Wood Flooring From the People's Republic of China: Final Results of Antidumping Duty Administrative Review, Final Determination of No Shipments, and Partial Rescission; 2015-2016

AGENCY: Enforcement and Compliance, International Trade Administration, Department of Commerce.

SUMMARY: The Department of Commerce (Commerce) determines that Jiangsu Senmao Bamboo and Wood Industry Co., Ltd. (Jiangsu Senmao) has not made sales of multilayered wood flooring (MLWF) from the People's Republic of China (China) at prices below normal value during the period of review (POR) December 1, 2015, through November 30, 2016. We also determine that Jilin Forest Industry Jinqiao Flooring Group Co., Ltd. (Jinqiao Flooring) is not eligible for a separate rate.

DATES: Applicable July 26, 2018.

FOR FURTHER INFORMATION CONTACT: Sergio Balbontin or Michael Bowen, AD/CVD Operations, Office VIII, Enforcement and Compliance, International Trade Administration, U.S. Department of Commerce, 1401 Constitution Avenue NW, Washington, DC 20230; telephone: 202-482-6478 and 202-482-0768, respectively.

SUPPLEMENTARY INFORMATION:

Background

On January 16, 2018, Commerce published the Preliminary Results.¹ For the events that occurred since Commerce published the Preliminary Results, see Issues and Decision Memorandum.² Commerce conducted this administrative review in accordance with section 751 of the Tariff Act of 1930, as amended (the Act).

¹ See Multilayered Wood Flooring from the People's Republic of China: Preliminary Results of the Antidumping Duty Administrative Review, Preliminary Determination of No Shipments, and Rescission of Review, in Part; 2015-2016, 83 FR 2137 (January 16, 2018) (Preliminary Results) and accompanying Memorandum from James Maeder, Associate Director performing the duties of the Associate Deputy Assistant Secretary for Antidumping and Countervailing Duty Operations, to Gary Taverman, Deputy Assistant Secretary for Antidumping and Countervailing Duty Operations, performing the non-exclusive functions and duties of the Assistant Secretary for Enforcement and Compliance, “Preliminary Decision Memorandum: Multilayered Wood Flooring from the People's Republic of China; 2015-2016” (Preliminary Decision Memorandum).

² See Memorandum from James Maeder, Associate Deputy Assistant Secretary for Antidumping and Countervailing Duty Operations, to Gary Taverman, Deputy Assistant Secretary for Antidumping and Countervailing Duty Operations, performing the non-exclusive functions and duties of the Assistant Secretary for Enforcement and Compliance, “Issues and Decision Memorandum: Multilayered Wood Flooring from the People's Republic of China; 2015-2016” (Issues and Decision Memorandum) dated concurrently with and hereby adopted by the notice.

Commerce exercised its discretion to toll all deadlines affected by the closure of the Federal Government from January 20 through 22, 2018. As a result, the revised deadline for the final results of this administrative review was May 22, 2018.³ On May 15, 2018, we extended this deadline to July 18, 2018.⁴

³ See Memorandum for The Record from Christian Marsh, Deputy Assistant Secretary for Enforcement and Compliance, performing the non-exclusive functions and duties of the Assistant Secretary for Enforcement and Compliance, “Deadlines Affected by the Shutdown of the Federal Government” (Tolling Memorandum), dated January 23, 2018. All deadlines in this segment of the proceeding have been extended by 3 days.

⁴ See Memorandum, “Multilayered Wood Flooring from the People's Republic of China: Extension of Deadline for Final Results of Antidumping Duty Administrative Review; 2015-2016,” dated May 15, 2018.

Scope of the Order

The product covered by the order is multilayered wood flooring from China. A full description of the scope of the order is contained in the Issues and Decision Memorandum.

Analysis of Comments Received

All issues raised in the case and rebuttal briefs are addressed in the accompanying Issues and Decision Memorandum. A list of these issues is attached to this notice as an Appendix. The Issues and Decision Memorandum is a public document and is on file electronically via Enforcement and Compliance's Antidumping and Countervailing Duty Centralized Electronic Service System (ACCESS). ACCESS is available to registered users at http://access.trade.gov and in the Central Records Unit, room B8024 of the main Department of Commerce building. In addition, a complete version of the Issues and Decision Memorandum can be accessed directly on the internet at http://enforcement.trade.gov/frn/index.html. The signed Issues and Decision Memorandum and electronic version of the Issues and Decision Memorandum are identical in content.

Final Determination of No Shipments

In the Preliminary Results, we determined preliminarily that 16 companies did not have shipments of subject merchandise during the POR.⁵ As we have not received any information to contradict our preliminary finding, we determine that these companies did not have any shipments of subject merchandise during the POR. We will issue appropriate instructions that are consistent with our “automatic assessment” clarification, for these final results.⁶

⁵ See Preliminary Results, 83 FR 2137, and Preliminary Decision Memorandum at 4.

⁶ See Non-Market Economy Antidumping Proceedings: Assessment of Antidumping Duties, 76 FR 65694 (October 24, 2011) (Assessment Notice); see also “Assessment Rates” section below.

Separate Rates

In the Preliminary Results, Commerce determined that Jiangsu Senmao and 69 additional companies not selected for individual review demonstrated their eligibility for separate rates.⁷ Commerce also determined that Jinqiao Flooring, one of the companies that Commerce selected as a mandatory respondent in this administrative review, was ineligible for a separate rate and is part of the China-wide entity, subject to the China-wide entity rate of 25.62 percent.⁸ These determinations remain unchanged. See the Issues and Decision Memorandum for further discussion.

⁷ See Preliminary Decision Memorandum at “Weighted-Average Dumping Margin for Non-Examined Separate-Rate Companies”.

⁸ See Preliminary Results, 83 FR 2137-2138. See also Antidumping Proceedings: Announcement of Change in Department Practice for Respondent Selection in Antidumping Duty Proceedings and Conditional Review of the Nonmarket Economy Entity in NME Antidumping Duty Proceedings, 78 FR 65963 (November 4, 2013).

Partial Rescission of Administrative Review

In accordance with the Court of International Trade's decision in Changzhou Hawd Flooring Co., Ltd., et al. v. United States,⁹ and consistent with the amended final determination, dated concurrently with this notice,¹⁰ we are excluding Fine Furniture (Shanghai) Limited and Dunhau City Jisen Wood Industry Co., Ltd., from the antidumping duty order. As a result, we are partially rescinding this administrative review with respect to these companies.

⁹ See Changzhou Hawd Flooring Co., Ltd., et al. v. United States,—— F. Supp. 3d——, 2018 WL 3322918 (CIT July 3, 2018) (Changzhou Hawd).

¹⁰ See Multilayered Wood Flooring from the People's Republic of China: Notice of Court Decision Not in Harmony With the Second Amended Final Determination and Notice of Third Amended Final Determination of the Antidumping Duty Investigation, dated concurrently with this notice.

Separate Rate Respondents

In accordance with the U.S. Court of Appeals for the Federal Circuit's decision in Albemarle Corp. v. United States,¹¹ we assigned to eligible non-selected respondents the separate rate we assigned to Jiangsu Senmao for the final results of this review.¹²

¹¹ See Albemarle Corp. & Subsidiaries v. United States, 821 F.3d 1345 (Fed. Cir. 2016).

¹² The separate rate for non-selected companies is normally the amount equal to the weighted average of the calculated weighted-average dumping margins established for mandatory respondents, excluding any margins that are zero, de minimis, or based entirely on adverse facts available. See section 735(c)(5) of the Act.

Final Results

As a result of this administrative review, we determine that the following weighted-average dumping margins exist for the period December 1, 2015, through November 30, 2016:

Exporters | Weighted-average dumping margin (percent)
A&W (Shanghai) Woods Co., Ltd | 0.00
Anhui Longhua Bamboo Product Co., Ltd | 0.00
Baishan Huafeng Wooden Product Co., Ltd | 0.00
Benxi Wood Company | 0.00
Changzhou Hawd Flooring Co., Ltd | 0.00
Dalian Dajen Wood Co., Ltd | 0.00
Dalian Guhua Wood Product Co., Ltd | 0.00
Dalian Huade Wood Product Co., Ltd | 0.00
Dalian Huilong Wooden Products Co., Ltd | 0.00
Dalian Jaenmaken Wood Industry Co., Ltd | 0.00
Dalian Kemian Wood Industry Co., Ltd | 0.00
Dalian Xinjinghua Wood Co., Ltd | 0.00
Dongtai Fuan Universal Dynamics, LLC | 0.00
Dunhua City Dexin Wood Industry Co., Ltd | 0.00
Dunhua City Hongyuan Wood Industry Co., Ltd | 0.00
Dunhua City Wanrong Wood Industry Co., Ltd | 0.00
Dunhua Shengda Wood Industry Co., Ltd | 0.00
Dun Hua Sen Tai Wood Co., Ltd | 0.00
Double F Limited | 0.00
Fusong Jinlong Wooden Group Co., Ltd | 0.00
Fusong Jinqiu Wooden Product Co., Ltd | 0.00
Fusong Qianqiu Wooden Product Co., Ltd | 0.00
Guangzhou Panyu Kangda Board Co., Ltd | 0.00
Guangzhou Panyu Southern Star Co., Ltd | 0.00
HaiLin LinJing Wooden Products, Ltd | 0.00
Hangzhou Hanje Tec Co., Ltd | 0.00
Hunchun Forest Wolf Wooden Industry Co., Ltd | 0.00
Hunchun Xingjia Wooden Flooring Inc | 0.00
Huzhou Chenghang Wood Co., Ltd | 0.00
Huzhou Fulinmen Imp. & Exp. Co., Ltd | 0.00
Huzhou Jesonwood Co., Ltd | 0.00
Huzhou Sunergy World Trade Co., Ltd | 0.00
Jiangsu Guyu International Trading Co., Ltd | 0.00
Jiangsu Kentier Wood Co., Ltd | 0.00
Jiangsu Mingle Flooring Co | 0.00
Jiangsu Senmao Bamboo and Wood Industry Co., Ltd | 0.00
Jiangsu Simba Flooring Co., Ltd | 0.00
Jiashan Huijiale Decoration Material Co., Ltd | 0.00
Jiaxing Hengtong Wood Co., Ltd | 0.00
Jilin Xinyuan Wooden Industry Co., Ltd | 0.00
Karly Wood Product Limited | 0.00
Kember Flooring, Inc | 0.00
Kemian Wood Industry (Kunshan) Co., Ltd | 0.00
Linyi Anying Wood Co., Ltd | 0.00
Linyi Youyou Wood Co., Ltd | 0.00
Metropolitan Hardwood Floors, Inc | 0.00
Mudanjiang Bosen Wood Industry Co., Ltd | 0.00
Nakahiro Jyou Sei Furniture (Dalian) Co., Ltd | 0.00
Pinge Timber Manufacturing (Zhejiang) Co., Ltd | 0.00
Scholar Home (Shanghai) New Material Co. Ltd | 0.00
Shanghai Lairunde Wood Co., Ltd | 0.00
Shenyang Haobainian Wooden Co., Ltd | 0.00
Shenzhenshi Huanwei Woods Co., Ltd | 0.00
Sino-Maple (Jiangsu) Co., Ltd | 0.00
Suzhou Dongda Wood Co., Ltd | 0.00
Tongxiang Jisheng Import and Export Co., Ltd | 0.00
Xiamen Yung De Ornament Co., Ltd | 0.00
Xuzhou Antop International Trade Co., Ltd | 0.00
Xuzhou Shenghe Wood Co., Ltd | 0.00
Yekalon Industry, Inc | 0.00
Yihua Lifestyle Technology Co., Ltd. (successor-in-interest to Guangdong Yihua Timber Industry Co., Ltd.) | 0.00
Yingyi-Nature (Kunshan) Wood Industry Co., Ltd | 0.00
Zhejiang Biyork Wood Co., Ltd | 0.00
Zhejiang Dadongwu Green Home Wood Co., Ltd | 0.00
Zhejiang Fudeli Timber Industry Co., Ltd | 0.00
Zhejiang Fuerjia Wooden Co., Ltd | 0.00
Zhejiang Fuma Warm Technology Co., Ltd | 0.00
Zhejiang Longsen Lumbering Co., Ltd | 0.00
Zhejiang Shiyou Timber Co., Ltd | 0.00

Assessment Rates

Pursuant to section 751(a)(2)(C) of the Act and 19 CFR 351.212(b), Commerce will determine, and U.S. Customs and Border Protection (CBP) shall assess, antidumping duties on all appropriate entries of subject merchandise in accordance with these final results of review. Commerce intends to issue assessment instructions to CBP 15 days after the date of publication of these final results. With regard to Jinqiao Flooring, we will instruct CBP to apply the China-wide assessment rate of 25.62 percent of the entered value of subject merchandise which was exported by this company during the POR. For Jiangsu Senmao and the other companies listed above that were not selected for individual review but were found eligible for separate rates, we will instruct CBP to liquidate the appropriate entries without regard to antidumping duties.

Additionally, consistent with its assessment practice in non-market economy (NME) cases, for the 16 companies which Commerce determined had no shipments of the subject merchandise, any suspended entries made under those exporters' case numbers (i.e., at the exporters' rates) will be liquidated at the China-wide rate.¹³ These companies are listed in Appendix II.

¹³ For a full discussion of this practice see Assessment Notice.

With regard to Fine Furniture (Shanghai) Limited, and Dunhua City Jisen Wood Industry Co., Ltd., because of the pending litigation, as discussed above, we intend to provide CBP with appropriate instructions with respect to this review at a later time.

Cash Deposit Requirements

The following cash deposit requirements will be effective upon publication of these final results of administrative review for shipments of the subject merchandise from China entered, or withdrawn from warehouse, for consumption on or after the publication date, as provided by sections 751(a)(2)(C) of the Act: (1) For companies which have received a separate rate in this segment of the proceeding, no cash deposit will be required; (2) for previously investigated or reviewed Chinese and non-Chinese exporters that received a separate rate in a prior segment of this proceeding, the cash deposit rate will continue to be the existing exporter-specific rate; (3) for all Chinese exporters of subject merchandise that have not been found to be entitled to a separate rate, the cash deposit rate will be that for the China-wide entity; and (4) for all non-Chinese exporters of subject merchandise which have not received their own rate, the cash deposit rate will be the rate applicable to the Chinese exporter that supplied that non-Chinese exporter. These deposit requirements, when imposed, shall remain in effect until further notice.

Reimbursement of Duties

This notice also serves as a reminder to importers of their responsibility under 19 CFR 351.402(f)(2) to file a certificate regarding the reimbursement of antidumping duties prior to liquidation of the relevant entries during this POR. Failure to comply with this requirement could result in Commerce's presumption that reimbursement of antidumping duties occurred and the subsequent assessment of double antidumping duties.

Administrative Protective Orders

This notice also serves as a reminder to parties subject to administrative protective order (APO) of their responsibility concerning the return or destruction of proprietary information disclosed under APO in accordance with 19 CFR 351.305, which continues to govern business proprietary information in this segment of the proceeding. Timely written notification of the return or destruction of APO materials, or conversion to judicial protective order, is hereby requested. Failure to comply with the regulations and terms of an APO is a violation which is subject to sanction.

This determination is issued and published in accordance with sections 751(a)(1) and 777(i)(1) of the Act and 19 CFR 351.221(b)(5).

Dated: July 18, 2018.
Gary Taverman,
Deputy Assistant Secretary for Antidumping and Countervailing Duty Operations, performing the non-exclusive functions and duties of the Assistant Secretary for Enforcement and Compliance.

Appendix I

List of Topics Discussed in the Issues and Decision Memorandum

I. Summary

II. Background

III. Scope of the Order

IV. Discussion of the Issues

Comment 1: Whether Commerce Improperly Selected Jinqiao Flooring as a Mandatory Respondent

Comment 2: Whether Jinqiao Flooring Is Entitled to a Separate Rate

Comment 3: Whether Jinqiao Flooring Is Entitled to an Individually-Calculated Rate

Comment 4: Whether To Allow, and How To Value Jiangsu Senmao's By-Product Offset

Comment 5: How To Value Jiangsu Senmao's Wood Veneers

Comment 6: Whether To Remove Baishan Huafeng Wood Product Co., Ltd. From the China-Wide Entity

Comment 7: Whether To Remove Guangdong Yihua Timber Industry Co., Ltd. From the China-Wide Entity

Comment 8: Whether To Amend Commerce's Draft Liquidation Instructions To Identify an Injunction Applicable to Entries Made by Fine Furniture (Shanghai) Limited

V. Recommendation

Appendix II

No-Shipment Certifications

Anhui Boya Bamboo & Wood Products Co., Ltd.

Changbai Mountain Development and Protection Zone Hongtu Wood Industrial Co., Ltd.

Chinafloors Timber (China) Co, Ltd.

Dalian Jiahong Wood Industry Co., Ltd.

Guangzhou Homebon Timber Manufacturing Co., Ltd.

Huzhou Muyun Wood Co., Ltd.

Jiangsu Keri Wood Co., Ltd.

Jiangsu Yuhui International Trade Co., Ltd.

Jiashan On-Line Lumber Co., Ltd.

Kingman Floors Co., Ltd.

Les Planchers Mercier, Inc.

Linyi Bonn Flooring Manufacturing Co., Ltd.

Power Dekor Group Co., Ltd.

Shanghai Lizhong Wood Products Co., Ltd.

Zhejiang Shuimojiangnan New Material Technology Co., Ltd.

Zhejiang Simite Wooden Co., Ltd.

China-Wide Entity Companies

Anhui Suzhou Dongda Wood Co., Ltd.

Baiying Furniture Manufacturer Co., Ltd.

Cheng Hang Wood Co., Ltd.

Dalian Jiuyuan Wood Industry Co., Ltd.

Dalian Qinqui Wooden Product Co., Ltd.

Dongtai Zhangshi Wood Industry Co., Ltd.

Fu Lik Timber (HK) Co., Ltd.

GTP International Ltd.

HaiLin Xincheng Wooden Products, Ltd.

Hangzhou Dazhuang Floor Co., Ltd. (dba Dasso Industrial Group Co., Ltd.)

Hangzhou Huahi Wood Industry Co., Ltd.

Huber Engineering Wood Corp.

Huzhou City Nanxun Guangda Wood Co., Ltd.

Huzhou Fuma Wood Co., Ltd.

Jiafeng Wood (Suzhou) Co., Ltd.

Jilin Forest Industry Jinqiao Flooring Group Co., Ltd.

Qingdao Barry Flooring Co., Ltd.

Shandong Kaiyuan Wood Industry Co., Ltd.

Shanghai Anxin (Weiguang) Timber Co., Ltd.

Shanghai Eswell Timber Co., Ltd.

Shanghai New Sihe Wood Co., Ltd.

Shanghai Shenlin Corporation

Vicwood Industry (Suzhou) Co., Ltd.

Yixing Lion-King Timber Industry

Zhejiang AnJi Xinfeng Bamboo and Wood Industry Co., Ltd.

Zhejiang Desheng Wood Industry Co., Ltd.

Zhejiang Haoyun Wooden Co., Ltd.

[FR Doc. 2018-15799 Filed 7-25-18; 8:45 am]

BILLING CODE 3510-DS-P